DEPARTMENT OF HOMELAND SECURITY

Coast Guard

33 CFR Part 165

[Docket No. USCG-2013-0347]

Safety Zone; San Francisco Independence Day Fireworks Display, San Francisco Bay, San Francisco, CA

AGENCY: Coast Guard, DHS.

ACTION: Notice of enforcement of regulation.

SUMMARY: The Coast Guard will enforce the safety zones for the San Francisco Independence Day Fireworks Display in the Captain of the Port, San Francisco area of responsibility during the dates and times noted below. This action is necessary to protect life and property of the maritime public from the hazards associated with the fireworks display. During the enforcement period, unauthorized persons or vessels are prohibited from entering into, transiting through, or anchoring in the safety zone, unless authorized by the Patrol Commander (PATCOM).

DATES: The regulations in this notice will be enforced from 9 a.m. on July 3, 2013 through 10:15 p.m. on July 4, 2013.

FOR FURTHER INFORMATION CONTACT: If you have questions on this notice, call or email Lieutenant Junior Grade William Hawn, Sector San Francisco Waterways Safety Division, U.S. Coast Guard; telephone 415-399-7442, email D11-PF-MarineEvents@uscg.mil.

SUPPLEMENTARY INFORMATION: The Coast Guard will enforce the San Francisco Independence Day Fireworks Display safety zones from 9 a.m. on July 3, 2013 through 10:15 p.m. on July 4, 2013.

For Location 1, during the loading of the fireworks barges, while the barges are being towed to the display location, and until the start of the fireworks display, the safety zone applies to the navigable waters around and under the fireworks barges within a radius of 100 feet. Loading of the pyrotechnics onto the fireworks barges is scheduled to take place from 9 a.m. until 2 p.m. on July 3, 2013, and will take place at Pier 50 in San Francisco, CA. Towing of the barges from Pier 50 to the display location is scheduled to take place from 8 p.m. until 8:45 p.m. on July 4, 2013. During the 25 minute fireworks display, scheduled to take place from 9:30 p.m. until 9:55 p.m. on July 4, 2013, the fireworks barge will be located 1,000 feet off of Pier 39 in approximate position 37°48′49″ N, 122°24′46″ W (NAD 83). Pursuant to 33 CFR 165.1191, Table 1, Item number 8, this safety zone will be in effect from 9 a.m. on July 3, 2013 to 10:15 p.m. on July 4, 2013.

For Location 2, the fireworks will be launched from the San Francisco Municipal Pier. During the 25 minute fireworks display, scheduled to take place from 9:30 p.m. until 9:55 p.m. on July 4, 2013, the safety zone will apply to the navigable waters around and under the fireworks launch site within a radius of 1,000 feet in approximate position 37°48′38″ N, 122°25′28″ W (NAD 83). Pursuant to 33 CFR 165.1191, Table 1, Item number 8, this safety zone will be in effect from 9:30 p.m. to 10:15 p.m. on July 4, 2013. Under the provisions of 33 CFR 165.1191, unauthorized persons or vessels are prohibited from entering into, transiting through, or anchoring in the safety zone during all applicable effective dates and times, unless authorized to do so by the PATCOM. Additionally, each person who receives notice of a lawful order or direction issued by an official patrol vessel shall obey the order or direction. The PATCOM is empowered to forbid entry into and control the regulated area. The PATCOM shall be designated by the Commander, Coast Guard Sector San Francisco. The PATCOM may, upon request, allow the transit of commercial vessels through regulated areas when it is safe to do so. This notice is issued under authority of 33 CFR 165.1191 and 5 U.S.C. 552(a). In addition to this notice in the Federal Register, the Coast Guard will provide the maritime community with extensive advance notification of the safety zone and its enforcement period via the Local Notice to Mariners.

If the Captain of the Port determines that the regulated area need not be enforced for the full duration stated in this notice, a Broadcast Notice to Mariners may be used to grant general permission to enter the regulated area.

Dated: May 18, 2013.
Gregory G. Stump,
Captain, U.S. Coast Guard, Captain of the Port San Francisco.

[FR Doc. 2013-13751 Filed 6-10-13; 8:45 am]

BILLING CODE 9110-04-P